DEPARTMENT OF THE INTERIOR

Bureau of Land Management

[CO-930-1220-EB]

Campground Fees for BLM-Administered Campgrounds in Colorado

AGENCY: Bureau of Land Management, Interior.

ACTION: Supplementary rules.

SUMMARY: The Bureau of Land Management (BLM) is establishing recreation use fees for campgrounds that did not have existing supplementary rules related to recreation use fees. BLM is also reaffirming existing supplementary rules for BLM-administered campgrounds throughout Colorado. We are taking this action to authorize the collection of fees from those who use the campgrounds. This action has the effect of requiring campground users to pay fees for the use of certain designated campgrounds.

EFFECTIVE DATE: October 20, 2000.

FOR FURTHER INFORMATION CONTACT: Tina McDonald, BLM Colorado State Office (CO-930), 2850 Youngfield Street, Lakewood, Colorado 80215, (303) 239-3716.

SUPPLEMENTARY INFORMATION: The authority for these Supplementary Rules is contained in the Code of Federal Regulations, Title 43, § 8365.1-6, Supplementary Rules. Violation of any supplementary rule by a member of the public, except for the provisions of § 8365.1-7, are punishable by a fine not to exceed $1,000 and/or imprisonment not to exceed 12 months. (Code of Federal Regulations, Title 43, § 8360.0-7.)

Violations of supplementary rules authorized by Sec. 8365.1-7 are punishable in the same manner.

Existing BLM Campgrounds in Colorado

This supplementary rule authorizes the establishment and re-affirmation of recreation fees at all existing fee campgrounds on BLM administered lands in Colorado. The following campgrounds are subject to recreation fees:

Gunnison Field Office: Mill Creek, Red Bridge, The Gate

San Juan Field Office: Bradfield Bridge

Royal Gorge Field Office: Shelf Road Recreation sites, Sand Gulch, The Banks

Grand Junction Field Office: Mud Springs

Kremmling Field Office: Pumphouse, Radium

Glenwood Springs Field Office: Gypsum, Wolcott

Saguache Field Office: Penitente Canyon

Uncompahgre Field Office: All campsites within the Gunnison Gorge National Conservation Area

Dave Strunk,
Deputy State Director, Resource Services (Acting).

[FR Doc. 00-26997 Filed 10-19-00; 8:45 am]

BILLING CODE 4310-JB-P